DEPARTMENT OF ENERGY

Federal Energy Regulatory Commission

Combined Notice of Filings #3

Take notice that the Commission received the following electric rate filings:

Docket Numbers: ER17-259-009.

Applicants: Darby Power, LLC.

Description: Compliance filing: Compliance to 130 to be effective N/A.

Filed Date: 1/30/26.

Accession Number: 20260130-5333.

Comment Date: 5 p.m. ET 2/20/26.

Docket Numbers: ER17-262-009.

Applicants: Waterford Power, LLC.

Description: Compliance filing: Compliance to 133 to be effective N/A.

Filed Date: 1/30/26.

Accession Number: 20260130-5324.

Comment Date: 5 p.m. ET 2/20/26.

Docket Numbers: ER18-2497-015.

Applicants: Lawrenceburg Power, LLC.

Description: Compliance filing: Compliance to 149 to be effective N/A.

Filed Date: 1/30/26.

Accession Number: 20260130-5327.

Comment Date: 5 p.m. ET 2/20/26.

Docket Numbers: ER21-2368-003.

Applicants: Chalk Point Power, LLC.

Description: Refund Report: Refund Report.

Filed Date: 1/30/26.

Accession Number: 20260130-5227.

Comment Date: 5 p.m. ET 2/20/26.

Docket Numbers: ER22-2569-003.

Applicants: Dickerson Power, LLC.

Description: Refund Report: Refund Report.

Filed Date: 1/30/26.

Accession Number: 20260130-5229.

Comment Date: 5 p.m. ET 2/20/26.

Docket Numbers: ER26-1196-000.

Applicants: Petersburg Energy Center, LLC.

Description: 205(d) Rate Filing: Revision to Market Based Rate to be effective 4/1/2026.

Filed Date: 1/30/26.

Accession Number: 20260130-5207.

Comment Date: 5 p.m. ET 2/20/26.

Docket Numbers: ER26-1197-000.

Applicants: Public Service Company of Oklahoma.

Description: 205(d) Rate Filing: Proposed Revisions to West Operating Agreement to be effective 4/1/2026.

Filed Date: 1/30/26.

Accession Number: 20260130-5210.

Comment Date: 5 p.m. ET 2/20/26.

Docket Numbers: ER26-1198-000.

Applicants: New England Power Pool Participants Committee.

Description: 205(d) Rate Filing: Feb 2025 Membership Filing to be effective 1/1/2026.

Filed Date: 1/30/26.

Accession Number: 20260130-5255.

Comment Date: 5 p.m. ET 2/20/26.

Docket Numbers: ER26-1199-000.

Applicants: PJM Interconnection, L.L.C.

Description: Tariff Amendment: Notice of Cancellation of CSA, Service Agreement No. 5369; Queue No. AC1-173 to be effective 4/1/2026.

Filed Date: 1/30/26.

Accession Number: 20260130-5263.

Comment Date: 5 p.m. ET 2/20/26.

Docket Numbers: ER26-1200-000.

Applicants: Armenia Mountain Wind, LLC.

Description: 205(d) Rate Filing: Revisions to Market-Based Rate Tariffs_Expedited Armenia Mt. Wind LLC, et al. to be effective 1/31/2026.

Filed Date: 1/30/26.

Accession Number: 20260130-5284.

Comment Date: 5 p.m. ET 2/20/26.

Docket Numbers: ER26-1201-000.

Applicants: Southwest Power Pool, Inc.

Description: 205(d) Rate Filing: Tariff Revisions Reg. Rate Sheet for Point-to-Point Transmission Service Rates to be effective 4/1/2026.

Filed Date: 1/30/26.

Accession Number: 20260130-5286.

Comment Date: 5 p.m. ET 2/20/26.

Docket Numbers: ER26-1202-000.

Applicants: PJM Interconnection, L.L.C.

Description: Tariff Amendment: Notice of Cancellation of CSA, Service Agreement No. 6355; Queue No. AD1-130 to be effective 4/1/2026.

Filed Date: 1/30/26.

Accession Number: 20260130-5289.

Comment Date: 5 p.m. ET 2/20/26.

Docket Numbers: ER26-1203-000.

Applicants: Condon Wind Power, LLC.

Description: 205(d) Rate Filing: Revisions to Market-Based Rate Tariffs_Expedited—Condon Wind Pwr LLC, et al. to be effective 1/31/2026.

Filed Date: 1/30/26.

Accession Number: 20260130-5292.

Comment Date: 5 p.m. ET 2/20/26.

Docket Numbers: ER26-1204-000.

Applicants: Southwest Power Pool, Inc.

Description: 205(d) Rate Filing: Western Area Power Administration-CRSP Contract Services Agreement to be effective 4/1/2026.

Filed Date: 1/30/26.

Accession Number: 20260130-5299.

Comment Date: 5 p.m. ET 2/20/26.

Docket Numbers: ER26-1205-000.

Applicants: South Peak Wind LLC.

Description: 205(d) Rate Filing: Revisions to Market-Based Rate Tariffs_Expedited—South Peak Wind, et al. to be effective 1/31/2026.

Filed Date: 1/30/26.

Accession Number: 20260130-5305.

Comment Date: 5 p.m. ET 2/20/26.

Docket Numbers: ER26-1206-000.

Applicants: Consolidated Edison Company of New York, Inc.

Description: 205(d) Rate Filing: 103 WDS Filing for RY 1 to be effective 4/1/2012.

Filed Date: 1/30/26.

Accession Number: 20260130-5307.

Comment Date: 5 p.m. ET 2/20/26.

Docket Numbers: ER26-1207-000.

Applicants: Southwest Power Pool, Inc.

Description: 205(d) Rate Filing: Western Area Power Administration-RMR Contract Services Agreement to be effective 4/1/2026.

Filed Date: 1/30/26.

Accession Number: 20260130-5308.

Comment Date: 5 p.m. ET 2/20/26.

Docket Numbers: ER26-1208-000.

Applicants: Southwest Power Pool, Inc.

Description: 205(d) Rate Filing: Tri-State Generation and Transmission Association Contract Services Agreement to be effective 4/1/2026.

Filed Date: 1/30/26.

Accession Number: 20260130-5310.

Comment Date: 5 p.m. ET 2/20/26.

Docket Numbers: ER26-1209-000.

Applicants: Tri-State Generation and Transmission Association, Inc.

Description: 205(d) Rate Filing: Revisions to Rate Schedule No. 281 to be effective 4/1/2026.

Filed Date: 1/30/26.

Accession Number: 20260130-5313.

Comment Date: 5 p.m. ET 2/20/26.

Docket Numbers: ER26-1210-000.

Applicants: Consolidated Edison Company of New York, Inc.

Description: 205(d) Rate Filing: PASNY Tariff update to be effective 5/11/2012.

Filed Date: 1/30/26.

Accession Number: 20260130-5340.

Comment Date: 5 p.m. ET 2/20/26.

Docket Numbers: ER26-1211-000.

Applicants: Florida Power & Light Company.

Description: 205(d) Rate Filing: Rollover NITSA No. 363 with FMPA to be effective 4/1/2026.

Filed Date: 1/30/26.

Accession Number: 20260130-5344.

Comment Date: 5 p.m. ET 2/20/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 30, 2026.
Debbie-Anne A. Reese,
Secretary.

[FR Doc. 2026-02413 Filed 2-5-26; 8:45 am]

BILLING CODE 6717-01-P